DEPARTMENT OF HEALTH AND HUMAN SERVICES

Substance Abuse and Mental Health Services Administration

Center for Substance Abuse Prevention; Notice of Meeting

Pursuant to Public Law 92-463, notice is hereby given of a Teleconference Call meeting of the Center for Substance Abuse Prevention (CSAP) National Advisory Council in February 2002.

The agenda of the open meeting will include an update of CSAP's budget, updates on strategic planning and restructuring, and administrative matters and announcement.

If anyone needs special accommodations and for persons with disabilities, please notify the contact listed below.

A summary of this meeting and roster of committee members may be obtained from Carol Watkins, Committee Management Specialist, Rockwall II Building, Suite 900, 5600 Fishers Lane, Rockville, Maryland 20857, Telephone: (301) 443-0365.

Substantive program information may be obtained from the contact listed below.

Committee Name: Center for Substance Abuse Prevention National Advisory Council.

Meeting Date: February 15, 2002, 12 noon-2 p.m.

Place: Center for Substance Abuse Prevention, 5515 Security Lane, 9th Floor, Conference Room I, Rockville, Maryland 20852.

Contact: Carol Watkins, 5515 Security Lane, Rockwall II Building, Suite 900, Rockville, Maryland 20852, Telephone: (301) 443-0365.

Dated: January 30, 2002.
Toian Vaughn,
Executive Secretary, Committee Management Officer, Substance Abuse and Mental, Health Services Administration.

[FR Doc. 02-2755 Filed 2-5-02; 8:45 am]

BILLING CODE 4162-20-P